DEPARTMENT OF DEFENSE

Office of the Secretary

Department of Defense Science and Technology Reinvention Laboratory (STRL) Personnel Management Demonstration Project Program

AGENCY: Deputy Assistant Secretary of Defense for Civilian Personnel Policy, (DASD (CPP)), Department of Defense (DoD).

ACTION: This notice amends existing STRL Personnel Management Demonstration Project Programs.

SUMMARY: STRLs will implement Senior Scientific Technical Manager (SSTM) positions, which are defined as senior professional scientific and technical positions classified above the GS-15 level of the General Schedule (GS). The primary functions of these positions shall be (1) to engage in research and development in the physical, biological, medical, or engineering sciences, or another field closely related to the mission of such STRL; and (2) to carry out technical supervisory responsibilities. These positions may only be established at authorized STRLs with personnel demonstration projects.

STRLs will also implement two new direct-hire authorities to appoint bachelor's degree candidates into scientific and engineering positions and veteran candidates into scientific, technical, engineering, and mathematics positions. The current direct-hire authority to appoint candidates with an advanced degree into scientific and engineering positions is also being included in this notice so that all STRL direct-hire authorities are documented in one location.

DATES: This notice may be implemented beginning on the date of publication in the Federal Register.

FOR FURTHER INFORMATION CONTACT:

Department of the Army

• ARL: Mr. Tom Bock, Program Manager, ARL Personnel Demonstration Project, AMSRD-ARL-O-HR, 2800 Powder Mill Road, Adelphi MD 20783-1197;

• AMRDEC: Mr. Chad Marshall, Demonstration Project Manager, AMRDEC, 5400 Fowler Road, Redstone Arsenal, AL 35898-5000;

• CERDEC: Ms. Desiree Roe, CERDEC Personnel Demonstration Project Administrator, Myer Center, Building 2700, Room 2C204, ATTN: AMSRD-CER-HRO, Fort Monmouth, NJ 07703-5209;

• ECBC: Ms. Patricia Milwicz, Management and Program Analyst, ECBC, Directorate of Program Integration, Workforce Management Office, Department of the Army, ATTN: RDCB-DPC-W, 5183 Blackhawk Road, Building 3330, Aberdeen Proving Ground, MD 21010-5424;

• ERDC: Ms. Patricia Sullivan, Personnel Demonstration Project Manager, U.S. Army ERDC, 3909 Halls Ferry Road, Vicksburg, MS 39180-6199;

• MRMC: Ms. Linda Krout, Personnel Demonstration Project Manager, 505 Scott St., Fort Detrick, MD 21702-5000;

• NSRDEC: Ms. Joelle Montecalvo, Demonstration Project Manager, NSRDEC, Kansas Street, (AMSRD-NSR-BO-W), Natick, MA 01760;

• TARDEC: Ms. Jennifer Davis, TARDEC, ATTN: RDTA-CS/MS 204, Warren, MI 48397-5000; and

• ARDEC: Mr. Mike Nicotra, U.S. Army ARDEC, Human Capital Management Office, Building 1, 3rd Floor, RDAR-EIH, Picatinny Arsenal, NJ 07806-5000.

Department of the Air Force:

• AFRL: Ms. Michelle Williams, Personnel Demonstration Project Manager, AFRL, 1864 4th Street, Wright-Patterson Air Force Base, OH 45433-5209.

Department of the Navy

• ONR: Ms. Margaret J. Mitchell, Director, Civilian Human Resources, ONR, 875 North Randolph Street, Code BD, Arlington, VA 22203;

• NRL: Ms. Cathy Downing, Director, Strategic Workforce Planning, NRL, 4555 Overlook Avenue SW., Washington, DC 20375-5320;

• NAVSEA Warfare Centers: Ms. Diane Brown, NAVSEA Warfare Centers Personnel Demonstration Project Manager, Naval Surface Warfare Center Carderock Division, 5001 South Broad Street, Philadelphia, PA 19112-5083;

• NAVAIR, Weapons Division and Aircraft Division: Mr. Dustin Kirby, Naval Air Warfare Center, Weapons Division (NAWCWD), Code 730000D, 1 Administration Circle, Building 00464, China Lake, CA 93555-6100; and

• Space and Naval Warfare Systems Command, Space and Naval Warfare Systems Center (SSC)

○ SSC Atlantic: Ms. Lindsay Blackwell, SSC Atlantic STRL Project Lead, SSC Atlantic, P.O. Box 190022, North Charleston, SC 29419-9022; and

○ SSC Pacific: Ms. Angela Hanson, SSC Pacific STRL Project Lead, SSC Pacific, 53560 Hull Street, San Diego, CA 92152-5001.

DoD

• Ms. Susie Collins, Defense Civilian Personnel Advisory Service, Non-Traditional Personnel Programs (DCPAS-NTPP), 4800 Mark Center Drive, Alexandria, VA 22350-1100.

SUPPLEMENTARY INFORMATION:

1. Background

Section 342(b) of the National Defense Authorization Act (NDAA) for Fiscal Year (FY) 1995, Public Law (Pub. L.) 103-337, as amended by section 1109 of the NDAA for FY 2000, Public Law 106-65, and section 1114 of the NDAA for FY 2001, Public Law 106-398, authorizes the Secretary of Defense to conduct personnel demonstration projects at DoD laboratories designated as STRLs. All STRLs authorized by section 1105 of the NDAA for FY 2010, Public Law 111-84, as well as any newly designated STRLs authorized by SECDEF or future legislation may utilize the provisions described in this Federal Register Notice (FRN). STRLs implementing this flexibility must have an approved personnel management demonstration project plan published in a FRN and shall fulfill any collective bargaining obligations. Each STRL shall establish internal operating instructions as appropriate. The fifteen current STRLs are:

• Army Research Laboratory (ARL)

• Aviation and Missile Research, Development, and Engineering Center (AMRDEC)

• Communications-Electronics Research, Development, and Engineering Center (CERDEC)

• Edgewood Chemical Biological Center (ECBC)

• Engineer Research and Development Center (ERDC)

• Medical Research and Materiel Command (MRMC)

• Natick Soldier Research, Development and Engineering Center (NSRDEC)

• Tank Automotive Research, Development and Engineering Center (TARDEC)

• Armament Research, Development and Engineering Center (ARDEC)

• Air Force Research Laboratory (AFRL)

• Office of Naval Research (ONR)

• Naval Research Laboratory (NRL)

• Naval Sea Systems Command (NAVSEA) Warfare Centers

• Naval Air Systems Command (NAVAIR) Warfare Centers, Weapons Division and Aircraft Division

• Space and Naval Warfare Systems Command, Space and Naval Warfare Systems Center (SSC), Atlantic and Pacific

The Above GS-15 Position concept was first implemented in September 1997 with the publication of the demonstration project plan for the U.S. Army Aviation Research, Development and Engineering Center (AVRDEC) and the U.S. Army Missile Research and Development Engineering Center (MRDEC) (now the AMRDEC). A subsequent phased implementation took place as the remaining STRL demonstration projects were approved. Forty billets were authorized by the Office of Personnel Management (OPM) to be delegated DoD-wide to STRLs for SSTM positions with duties and qualifications that exceeded the GS-15 classification criteria. These allocations are managed separately from the Senior Executive Service (SES), Scientific and Professional Positions (STs), and Senior-Level (SL) positions.

Section 1105 of the NDAA for FY 2010 designated additional STRLs into the personnel management demonstration projects and these STRLs published FRNs (Appendix B) that created pay bands above the GS-15 level in anticipation of a DoD initiative that would authorize such pay bands. The pay bands identified meet the criteria for establishment of the SSTM positions authorized by this FRN.

Section 1108 of the NDAA for FY 2009, Public Law 110-417, as amended by section 1101 of the NDAA for FY 2011, Public Law 111-383 and section 1103 of the NDAA for FY 2012, Public Law 112-81, authorized a direct-hire authority for candidates with an advanced degree to be appointed to scientific and engineering positions. This authority has provided the STRLs the ability to compete with private industry and academia resulting in expeditious appointments of high-quality advanced-degree candidates.

2. Overview

I. Introduction

A. Purpose

Section 1107(f) of NDAA for FY 2014 establishes in each STRL a category of positions entitled Senior Scientific Technical Managers (SSTM). The purpose of the SSTM category is to appropriately classify positions that surpass the GS-15 classification criteria. These positions would not be appropriately classified as STs because of the significant degree of technical supervisory and/or managerial authorities inherent in the positions. The SL classification designation would not be appropriate because it does not cover positions that involve fundamental research and development responsibilities. Similarly, the SES classification designation would also not be appropriate because it does not require the specialized scientific or engineering expertise required in the SSTM positions. The SSTMs also do not demonstrate the level of managerial authority and impact required of an SES position. The SSTMs establish a separate pay band level or career track. This notice implements the SSTM category.

Section 1107(a) of NDAA for FY 2014 establishes two new direct-hire authorities. In addition, Section 1108 of the NDAA for FY 2009, Public Law 110-417, as amended, established a direct-hire authority for qualified candidates with an advanced degree. The purpose of the direct-hire authorities is to provide a streamlined and accelerated hiring process to allow the STRLs to successfully compete with private industry and academia for high-quality scientific, engineering, and technician talent for both GS and Demonstration Project positions.

B. Required Waivers to Law and Regulation

Several laws, rules, and regulations will require waivers to implement the SSTM. Appendix A lists these laws and regulations. Section 1108 of the NDAA for FY 2009, as amended and Section 1107(a) of NDAA for FY 2014 waived subchapter I of 5 United States Code (U.S.C.) chapter 33 (other than sections 3303 and 3328) when using the direct-hire authorities.

C. Expected Benefits

(1) The SSTM authority is expected to:

(a) Properly classify and compensate senior professional individuals who are engaged in or managing research and development in the physical, biological, medical or engineering sciences or other closely related field and who provide technical supervision over such programs.

(b) Provide the opportunity for career development and expansion of a pool of experienced, prominent technical candidates meeting the levels of proficiency and leadership essential to create and maintain DoD state-of-the-art scientific, engineering, and technological operations; and

(c) Provide laboratories a sufficient number of properly classified Above GS-15 Positions to meet mission needs.

(2) The direct-hire authorities are expected to be very effective in streamlining and accelerating the hiring process for high-quality scientific, engineering, and technician positions, enhancing the STRL's ability to compete with private industry and academia for the high-quality candidates.

D. Participating Organizations and Employees

All DoD laboratories designated as STRLs under section 1105 of the NDAA for FY 2010 (including any newly designated STRLs authorized by SECDEF or by future legislation) with approved personnel management demonstration project plans published in Federal Registers may utilize the provisions described in this FRN.

II. Personnel System Changes

All current STRL demonstration project plans are hereby amended to add the following:

A. Description and Implementation of SSTM Positions

1. Authorized Positions

The number of authorized positions in each STRL, not including the 40 positions authorized by OPM, shall not exceed 1 percent of the number of scientists and engineers employed at such laboratory as of the close of the last fiscal year before the fiscal year in which any appointments subject to that numerical limitation are made. If the 1 percent of authorized positions does not equate to a whole number, the STRL shall round down to the next lower number. Though the authorized number of SSTM positions may increase or decrease as the overall DoD science and engineering workforce increases or decreases, no SSTM employee will have his/her classification as a SSTM changed or his/her pay reduced, because the size of the STRL's science and engineering workforce has decreased. In such circumstances, an STRL may temporarily exceed its new authorized number until attrition occurs.

2. Position Classification

(a) Position Requirements

At a minimum, the paramount requirement for all SSTM positions is knowledge of and expertise in the specific scientific and/or technology areas related to the mission of the employing STRL and its Component. Position incumbents must perform the following:

• Furnish highly advanced and/or unprecedented scientific and/or technical guidance and recommendations to top-level administrative and technical management officials within the STRL, Component, DoD, other Government agencies, and outside organizations such as academia; and

• Primarily perform and/or manage research and development in the physical, biological, medical, or engineering sciences, or another field closely related to the mission of the STRL; and

• Carry out technical supervisory responsibilities involving technical planning and oversight of work accomplished through Federal civil service employees, assigned military members, non-Federal workers, and/or others, to include Intergovernmental Personnel Act (IPA) assignments, contractors, volunteers, etc.

Incumbents typically report to an SES or SES equivalent-level position. While all SSTM positions have technical supervisory responsibilities, they do not all meet the intent of the supervisory criteria specified in the OPM General Schedule Supervisory Guide (GSSG) or other applicable supervisory classification guidance as defined by a STRL's FRN. However, depending on the STRL missions, programs, and/or structure, some SSTM positions may have as a paramount responsibility accomplishing work through both the technical and administrative direction to others. These positions meet at least the minimum requirements for coverage under the GSSG and may be eligible for a supervisory pay differential in accordance with paragraph 8 of this FRN.

(b) Pay Bands/Career Track

This FRN authorizes STRLs to establish a separate pay band/career track level(s) or to modify existing pay band/career track level(s) to accommodate the SSTM category. Levels can be established to cover either supervisory or nonsupervisory positions, or both, as described in paragraph 2(a) above. Specific details regarding SSTM pay band/career track levels will be included in the STRLs internal operating instructions.

3. Designated Classification Officials for SSTM Positions

Laboratory directors, or their designees, are designated as the classification officials for SSTM positions. Specific details regarding each STRL's classification process, control and management of these positions will be included in the STRL's internal operating procedures.

4. Staffing and Recruitment

Positions may be filled: (a) On a temporary, term, or permanent basis utilizing appropriate internal and/or external competitive recruitment procedures; (b) through accretion-of-duties promotions; or (c) using a direct hire authority. Positions may also be filled temporarily using non-competitive procedures (e.g., detail and temporary promotions). Laboratory directors have the discretion to select the recruitment and staffing method most appropriate based on the specialized position requirements and available candidate pool. However, the recruitment and staffing methodology must include: (a) An internal process which incorporates an impartial, rigorous, and demanding assessment of candidates to evaluate the breadth of their technical expertise; (b) an external recruitment process; (c) creation of panels to assist in filling positions; or (d) other comparable recruitment and/or staffing mechanisms.

5. Basic Pay Range

The minimum basic pay for SSTM positions is 120 percent of the minimum rate of basic pay for GS-15. Maximum SSTM basic pay with locality pay is limited to Executive Level III (EX-III), and maximum salary without locality pay may not exceed EX-IV.

6. Performance Management

Each STRL will determine the appropriate performance/contribution management system, non-SES/SL/ST or SES/SL/ST program, to be used to evaluate an SSTM employee's performance/contribution. The selected method will be documented in the STRL's Demonstration Program internal operating procedures.

7. Pay Retention

Pay retention may be provided to SSTM members under criteria established by each STRL who are impacted by a reduction in force, work realignment, or other planned management action that would necessitate moving the incumbent to a position in a lower pay band within the STRL. Pay retention may also be provided under criteria established by each STRL when an SES or ST employee is placed in a SSTM position as a result of reduction in force or other management action. Grade retention is not authorized for members of the SSTM.

8. SSTM Supervisory Pay Differential

A supervisory pay differential may be used by laboratory directors to provide an incentive to appropriately compensate SSTM personnel. This pay differential is a pay incentive that may range up to 5 percent of base pay (excludes locality pay) for SSTM personnel. It is paid on a pay period basis with a specified not-to-exceed date up to 1 year and may be renewed as appropriate. This pay differential is not included as part of base pay for any purpose. Criteria to be considered in determining the amount of the pay differential are: (a) Needs of the organization; (b) budgetary constraints; (c) years and quality of related experience; (d) relevant training; (e) performance appraisals; (f) experience as a supervisor/manager; (g) organizational level of position; and (h) impact on the organization. The pay differential may be terminated or reduced at the discretion of the laboratory director based on legitimate business reasons; however, the pay differential must be terminated if the employee is removed from a position for which a pay differential is approved, regardless of cause. Each STRL will document in their internal operating procedures the method used for determining payment, reduction, or discontinuation of the pay differential. All personnel actions involving a supervisory pay differential will require a statement signed by the employee acknowledging that the pay differential may be terminated or reduced at the discretion of the laboratory director. The termination or reduction of the pay differential is not an adverse action and is not subject to appeal. The total pay (including locality pay) may not exceed the midpoint between the maximum rate of basic pay of EX-III and the maximum rate of basic pay of EX-II, (i.e. $175,000; (calculation is rounded up to the next thousand) for calendar year 2014). SSTM employees are subject to the aggregate limitation on pay found in 5 U.S.C. 5307 and 5 Code of Federal Regulations (CFR) subpart 530.203.

9. SSTM Program Oversight

The program shall be managed and administered by the laboratory director in compliance with the provisions of this FRN and internal operating procedures developed by each STRL. The number of SSTM positions established pursuant to section 1107(f) shall not exceed 1 percent of the number of scientists and engineers employed at such laboratory as of the close of the last fiscal year before the fiscal year in which any appointments subject to that numerical limitation are made, and will be reviewed annually by each STRL's Laboratory Director, or his/her designee, to determine the appropriate number of positions authorized as a result of increases or decreases in the STRL's scientific and engineering workforce. This authorization may be amended by future legislation.

New appointments under this authority may not be made after December 31, 2019 unless Section 1107(f) of NDAA for FY 2014 is amended. Candidates appointed prior to January 1, 2020, may remain in the position as appropriate.

10. Evaluation

Procedures for evaluating this authority will be incorporated into the normal STRL demonstration project evaluation process conducted by the STRLs, DASD(CPP), Director of Laboratories, or Component Headquarters, as appropriate.

11. Reports

STRLs will provide information and data on the use of this authority including numerical limitations, hires made, declinations, difficulties encountered, and/or recognized efficiencies, when requested by the Military Department or the DASD(CPP).

B. Direct-Hire

1. Authorities

STRLs will use the direct-hire authorities authorized by section 1108, NDAA for FY 2009 and section 1107, NDAA for FY 2014, as appropriate, to appoint the following:

(a) Candidates with advanced degrees to scientific and engineering positions;

(b) Candidates with bachelor's degrees to scientific and engineering positions; and

(c) Veteran candidates to scientific, technical, engineering, and mathematics positions, including technicians.

New appointments under (b) and (c) above may not be made after December 31, 2019, unless these authorities are amended by future legislation.

2. Definitions

(a) Scientific and engineering positions are defined as all professional positions, both within the personnel demonstration project and those that are outside the personnel demonstration project as defined in the applicable FRN in scientific and engineering occupations with a positive education requirement.

(b) An advanced degree is a Master's or higher degree from an accredited college or university in a field of scientific or engineering study directly related to the duties of the position to be filled.

(c) Scientific, engineering, technical, mathematic, and technician positions are those demo positions described in the STRL FRN (Appendix B) or Internal Operating Procedures in the Scientist and Engineer and/or Technician/Technical Career Paths or positions outside the personnel demonstration project as defined in the applicable FRN utilized by the STRLs, that directly support the science and engineering activities. The non-demo positions will be identified in internal operating procedures.

(d) Qualified candidates are defined as candidates who:

(1) Meet the minimum qualification standards for the position as published in OPM's operating manual, “Qualification Standards for General Schedule Positions,” or the STRL's demonstration project qualification standards specific to the position to be filled; and

(2) Meet any selective factors.

(e) “Employee” is defined by 5 U.S.C. 2105.

(f) “Veteran” is defined by 38 U.S.C. 101.

3. Provisions

(a) Use of this appointment authority must comply with merit system principles.

(b) Appointments may be made on a permanent, term, or temporary basis.

(c) Qualified bachelor's and advanced degree candidates for scientific and engineering positions may be appointed without regard to the provisions of subchapter 1 of 5 U.S.C. chapter 33 (other than sections 3303 and 3328), including 5 CFR parts 300-330 other than Subpart G of 5 CFR part 300.

(d) Qualified veteran candidates for scientific, technical, engineering, and mathematics positions, including technicians, may be appointed without regard to the provisions of subchapter 1 of 5 U.S.C. chapter 33, including 5 CFR parts 300-330 other than Subpart G of 5 CFR part 300.

(e) When documenting personnel actions, cite the first legal authority code (LAC)/legal authority for all permanent, term, temporary, or special demonstration project appointments as Z2U/P.L. 103-337. The second LAC/legal authority will be cited as follows:

(1) For appointments of advanced degree candidates to scientific and engineering positions: Z5C/Direct Hire Auth (STRL-Advanced Degree), Sec 1108, PL 110-417, 10/14/2008;

(2) For appointments of bachelor's degree candidates to scientific and engineering positions: Z5C/Direct Hire Auth (STRL-Bachelor), Sec 1107(a)(1), PL 113-66, 12/26/2013; and

(3) For appointments of veteran candidates to scientific, technical, engineering, and mathematics positions, including technicians: Z5C/Direct Hire Auth (STRL-Veterans), Sec 1107(a)(2), PL 113-66, 12/26/2013.

4. Authorized Positions

(a) Advanced degree for scientific and engineering positions. The number of appointments made in a calendar year may not exceed 5 percent of the total number of demo and non-demo scientific and engineering positions, to include SES, ST, above GS-15, military and students in the S&E x99 series, within the STRL that are filled as of the close of the fiscal year ending before the start of such calendar year.

(b) Bachelor's degree for scientific and engineering positions. The number of appointments made in a calendar year may not exceed 3 percent of the total number of demo and non-demo scientific and engineering positions, to include SES, ST, above GS-15, military and students in the S&E x99 series, within the STRL that are filled as of the close of the fiscal year ending before the start of such calendar year.

(c) Veteran authority for scientific, technical, engineering, mathematics and technician positions. The number of appointments made in a calendar year may not exceed 1 percent of the total number of demo and non-demo scientific, technical, engineering, mathematics, and technician positions, to include SES, ST, above GS-15, military, and students in the S&E x99 series, within the STRL that are filled as of the close of the fiscal year ending before the start of such calendar year.

(d) When determining the number of appointments authorized, if the percentage of authorized positions does not equate to a whole number, the STRL shall round down to the next lower number.

(e) These authorizations may be amended by future legislation.

5. Evaluation

STRLs will provide information and data on the use of these direct-hire appointment authorities including numerical limitations, hires made, declinations, veterans hired, difficulties encountered, and/or recognized efficiencies, when requested by the Military Department or the DASD(CPP).

Appendix A

United States Code and Code of Federal Regulations Waived Science and Technology Reinvention Laboratories

Title 5, United States Code | Title 5, Code of Federal Regulations
| 5 CFR 359.705 to allow demonstration project rules governing pay retention to apply to a former SES placed on an SSTM position.
5 U.S.C. § 3104—Employment of Specially Qualified Scientific and Professional Personnel. Waive to allow scientific, engineering and technology positions authorized under Section 1107(f) of 2014 NDAA | 5 CFR 300-330, other than Subpart G of 300 waived to the extent necessary to allow provisions of the direct hire authorities as described in this Federal Register notice.
5 U.S.C. § 3324—Appointments to Positions Classified Above GS-15; and 5 U.S.C. § 3325—Appointments to Scientific and Professional Positions. Waived in entirety |
5 U.S.C. § 5301—Policy; 5 U.S.C. § 5302(8) and (9)—Definitions; 5 U.S.C. § 5303—Annual Adjustments to Pay Schedules; 5 U.S.C. § 5304—Locality-based Comparability Payments; and 5 U.S.C. § 5306—Pay Fixed by Administrative Action. Waived to the extent necessary to allow SSTM employees to be treated as GS employees and basic rates of pay under the demonstration project to be treated as scheduled rates of basic pay and to permit SSTM pay not to exceed EX-IV and locality adjusted SSTM rates not to exceed EX III | 5 CFR 531, subpart F—Locality-based Comparability Payments. Waived to the extent necessary to allow SSTM employees to be treated as GS employees and basic rates of pay under the SSTM to be treated as scheduled annual rates of pay.
5 U.S.C. § 5363 to the extent necessary to allow SSTMs to receive pay retention as described in this Federal Register Notice | 5 CFR 536.306(a) to the extent necessary to allow SSTMs to receive pay retention as described in this Federal Register Notice.
5 U.S.C. § 5755 to the extent necessary to allow SSTMs to receive supervisory pay differentials as described in this Federal Register Notice | 5 CFR 575, Subpart D, to the extent necessary to allow SSTMs to receive supervisory pay differentials as described in this Federal Register Notice.

Appendix B

STRLs Federal Register Notice of Approval of a Demonstration Project Plan

Part 1: STRLs Authorized by Director of Defense Research and Engineering, Memo 30 Aug 1994 and Section 342 of FY 1995 NDAA, Public Law 103-337

STRL | Federal Register notice
Air Force Research Laboratory | 61 FR 60400 amended by 75 FR 53076.
Army Research Laboratory | 63 FR 10680.
Aviation and Missile Research, Development, and Engineering Center | 62 FR 34906 and 62 FR 34876 amended by 65 FR 53142 (AVRDEC and AMRDEC merged together).
Communications-Electronics Research, Development, and Engineering Center | 66 FR 54872.
Engineer Research and Development Center | 63 FR 14580.
Medical Research and Material Command | 63 FR 10440.
Naval Research Laboratory | 64 FR 33970.
Naval Sea Systems Command Warfare Centers | 62 FR 64050.

Part 2. STRLs Authorized by Section 1105 of FY 2010 NDAA, Public Law 111-84

STRL | Federal Register notice
Armament Research, Development and Engineering Center | 76 FR 3744.
Edgewood Chemical Biological Center | 74 FR 68936.
Natick Soldier Research, Development and Engineering Center | 74 FR 68448.
Naval Air Systems Command Warfare Centers, Weapons and Aircraft Divisions | 76 FR 8530.
Office of Naval Research | 75 FR 77380.
Space and Naval Warfare Systems Command, Space and Naval Warfare Systems Center, Atlantic and Pacific | 76 FR 1924.
Tank Automotive Research, Development and Engineering Center | 76 FR 12508.

Dated: July 23, 2014.
Aaron Siegel,
Alternate OSD Federal Register Liaison Officer, Department of Defense.

[FR Doc. 2014-17657 Filed 7-25-14; 8:45 am]

BILLING CODE 5001-06-P